INTERNATIONAL TRADE COMMISSION

Index and Description of Major Information Systems and Availability of Records

AGENCY: United States International Trade Commission.

ACTION: Notice announcing availability of public information.

SUMMARY: The United States International Trade Commission (USITC or Commission) provides notice of its index and description of major information systems and availability of its records.

FOR FURTHER INFORMATION CONTACT: Marilyn R. Abbott (202-205-2799), Secretary, U.S. International Trade Commission, 500 E Street SW., Washington, DC 20436. Hearing-impaired persons can obtain information on this matter by contacting the Commission's TDD terminal on 202-205-1810. Persons with mobility impairments who will need special assistance in gaining access to the Commission and persons seeking information on the Commission, or making submittals or requests, and seeking decisions, may contact the Office of the Secretary at 202-205-2000.

SUPPLEMENTARY INFORMATION: The Commission makes agency records available to the public in a number of ways: Electronic Document Information System. This system provides Internet access to public documents filed with the Office of the Secretary. Docketing information for USITC investigations instituted since 1996 is available electronically by accessing the USITC Internet site at “http://www.usitc.gov” or directly at “http://dockets.usitc.gov/eol/public/.”

FOIA. Commission records may also be requested under the Freedom of Information Act (FOIA) (5 U.S.C. 552). These requests are filed with the Secretary at 500 E Street, SW., Washington, DC 20436, and must clearly be identified in the request letter and on the envelope as a “Freedom of Information Act Request.” Commission rules for requesting information under FOIA are set out in 19 CFR 201.17-201.21.

Government Information Locator. The USITC has an entry in the Government Information Locator Service, at “http://www.access.gpo.gov/su_docs/gils/gils.html.”

Libraries. The Commission maintains two libraries, its National Library of International Trade (the Commission's main reference library), located on the 3rd floor of the Commission building, and a law library, located on the 6th floor. Both are open to the public during normal business hours of 8:45 a.m. to 5:15 p.m. The libraries contain, among other things, complete sets of Commission reports. To determine whether the respective libraries have the information sought, persons seeking information may call the main library at 202-205-2630, or the law library at 202-205-3287.

Public Reading Room. The Commission's docket files in the Office of the Secretary contain the submissions made in all Commission investigations. The files are available for inspection in the Public Reading Room in the Office of the Secretary. The Public Reading Room is located on the 1st floor of the Commission building. Persons having questions regarding availability of records may call the Dockets staff at 202-205-1802. Depending on the age of the records requested, the files are available electronically, in hard copy, and/or on microfiche.

Reports. Reports containing the findings and conclusions of Commission investigations and Commissioner opinions are available in hard copy, generally at no charge, from the Office of the Secretary (telephone 202-205-1809). Reports are also made available for download from the USITC Internet site.

Rules. The Commission's Rules of Practice and Procedure set out the procedures used in Commission proceeding. The rules in 19 CFR parts 200-213 are located in the Code of Federal Regulations and the Commission's Internet site.

Tariff and Trade Data Web. The Commission's DataWeb “http://dataweb.usitc.gov,” provides public access to tariff and trade data. Data from 1989 are available and can be retrieved in a number of classification systems.

USITC Internet Site. Recent Commission notices, news releases, meeting agendas, monthly calendars, general information “fact sheets,” Commissioner biographies, schedules of pending investigations (including hearing dates and deadlines for written submissions), reports, information frequently requested under FOIA, and general information about the Commission are available electronically through the Internet at “http://www.usitc.gov.”

Copies of Commission public records can also be obtained from the Secretary through an on-site duplicating service for a minimum fee.

By order of the Commission.
Issued: March 19, 2002.
Marilyn R. Abbott,
Secretary.

[FR Doc. 02-7140 Filed 3-22-02; 8:45 am]

BILLING CODE 3-22-M